FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 011870-005.

Title: Indian Subcontinent Discussion Agreement.

Parties: CMA CGM S.A.; Emirates Shipping Line FZE; Evergreen Marine Corp. (Taiwan) Ltd.; MacAndrews & Company Limited; Nippon Yusen Kaisha; Shipping Corporation of India; United Arab Shipping Company (S.A.G.); and Zim Integrated Shipping Services, Ltd.

Filing Party: Wayne R. Rohde, Esq.; Sher & Blackwell; 1850 M Street, NW., Suite 900; Washington, DC 20036.

Synopsis: The amendment reflects the withdrawal of Hapag Lloyd A.G. as a party to the agreement effective June 24, 2007.

Agreement No.: 011931-003.

Title: CMA CGM/Marfret Vessel Sharing Agreement.

Parties: CMA CGM S.A., CMA CGM (UK) Limited, and Compagnie Maritime Marfret S.A.

Filing Party: Paul M. Keane, Esq.; Cichanowicz, Callan, Keane, Vengrow & Textor, LLP; 61 Broadway, Suite 3000; New York, NY 10006-2802.

Synopsis: The amendment revises the geographic scope of the agreement by adding ports in the Caribbean. The parties request expedited review.

Dated: June 29, 2007.
By Order of the Federal Maritime Commission.
Karen V. Gregory,
Assistant Secretary.

[FR Doc. E7-13019 Filed 7-3-07; 8:45 am]

BILLING CODE 6730-01-P